DEPARTMENT OF LABOR

Mine Safety and Health Administration

30 CFR Part 100

[Docket No. MSHA-2014-0009]

RIN 1219-AB72

Criteria and Procedures for Assessment of Civil Penalties

Correction

In proposed rule document 2014-17935 appearing on pages 44493-44518 in the issue of July 31, 2014, make the following correction:

Beginning on page 44497, Part 100 Table III is corrected to read as set forth below:

Part 100 Table III—Size of Metal/Nonmetal Mine
Existing rule: Annual hours worked at mine (× 1,000) | Existing rule: Penalty points (out of maximum 208 points) | Proposed rule: Annual hours worked at mine (× 1,000) | Proposed rule: Penalty points (out of maximum 100 points)
0 to 5 | 0 | 0 to 5 | 0
>5 to 10 | 1 |  |
>10 to 20 | 2 |  |
>20 to 30 | 3 |  |
>30 to 50 | 4 | >5 to 200 | 1
>50 to 100 | 5 |  |
>100 to 200 | 6 |  |
>200 to 300 | 7 |  |
>300 to 500 | 8 |  |
>500 to 700 | 9 | >200 to 1,500 | 2
>700 to 1,000 | 10 |  |
>1,000 to 1,500 | 11 |  |
>1,500 to 2,000 | 12 | >1,500 to 3,000 | 3
>2,000 to 3,000 | 13 |  |
>3,000 to 5,000 | 14 | >3,000 | 4
>5,000 | 15

[FR Doc. C1-2014-17935 Filed 11-14-14; 8:45 am]

BILLING CODE 1505-01-D